DEPARTMENT OF STATE

Bureau of Oceans and International Environmental and Scientific Affairs; Certifications Pursuant to Section 609 of Public Law 101-162

[Public Notice 4621]

SUMMARY: On January 26, 2004, the Department of State certified, pursuant to Section 609 of Public Law 101-162 (“Section 609”), that 2 nations, Costa Rica and Honduras, have adopted programs to reduce the incidental capture of sea turtles in their shrimp fisheries comparable to the program in effect in the United States. The Department also withdrew certification for one country, Nigeria, due to concerns over the effectiveness of its program.

EFFECTIVE DATE: February 11, 2004.

FOR FURTHER INFORMATION CONTACT: James Story, Office of Marine Conservation, Bureau of Oceans and International Environmental and Scientific Affairs, Department of State, Washington, DC 20520-7818; telephone: (202) 647-2335.

SUPPLEMENTARY INFORMATION: Section 609 of Public Law 101-162 prohibits imports of certain categories of shrimp unless the President certifies to the Congress not later than May 1 of each year either: (1) That the harvesting nation has adopted a program governing the incidental capture of sea turtles in its commercial shrimp fishery comparable to the program in effect in the United States and has an incidental take rate comparable to that of the United States; or (2) that the fishing environment in the harvesting nation does not pose a threat of the incidental taking of sea turtles. The President has delegated the authority to make this certification to the Department of State. Revised State Department guidelines for making the required certifications were published in the Federal Register on July 2, 1999 (Vol. 64, No. 130, Public Notice 3086).

On January 26, 2004, the Department certified Costa Rica and Honduras on the basis that their sea turtle protection program is comparable to that of the United States. These countries join 14 others certified by the Department in 2003 on the same basis.

The Department also withdrew certification for Nigeria, on the basis of a determination that the program in place in Nigeria was no longer comparable in effectiveness to the program in place in the United States. Imports of shrimp harvested by commercial fishing technology in Nigeria will not be eligible for importation into the United States, though products from artisanal fisheries or aquaculture production remain eligible for importation if accompanied by a properly executed DS-2031 Shrimp Importer's/Exporter's declaration. No other categories of shrimp produced in Nigeria are eligible for importation at this time.

The Department of State has communicated the certifications under Section 609 to the Office of Trade Program of the United States Customs Service.

Dated: February 4, 2004.
David A Balton,
Deputy Assistant Secretary for Oceans and Fisheries, Department of State.

[FR Doc. 04-2972 Filed 2-10-04; 8:45 am]

BILLING CODE 4710-09-U